DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Evaluation of the Comprehensive Community Mental Health Services for Children and Their Families Program: Phase VI (OMB No. 0930-0307)—REVISION

The Substance Abuse and Mental Health Services Administration (SAMHSA), Center of Mental Health Services is responsible for the national evaluation of the Comprehensive Community Mental Health Services for Children and Their Families Program (Children's Mental Health Initiative—CMHI) that will collect data on child mental health outcomes, family life, and service system development. Data will be collected on nine (9) service systems, and approximately 2,106 children and families and providers/administrators, using 26 instruments. Data collection will be decreased by 26,960 hours due to program changes resulting from the closing of 19 communities funded in FY 2009 that no longer require data collection and data collection for the Sector and Comparison Study.

Data collection for this evaluation will be conducted over the next 3-year period. Child and family outcomes of interest will be collected at intake and at 6-month follow-up. The individual families will participate in the study for the remaining 12 months. The outcome measures include the following: Child symptomatology and functioning, family functioning, satisfaction, and caregiver strain. The service system data will be collected every 6 months during the remaining 3 years of the evaluation. Service utilization and cost data will be tracked and submitted to the national evaluation every 6 months using two tools—the Flex Fund Tool and the Services and Costs Data Tool—to estimate average cost of treatment per child, distribution of costs, and allocation of costs across service categories. Service delivery and system variables of interest include the following: Maturity of system of care development in funded system of care communities, adherence to the system of care program model, and client service experience.

Internet-based technology such as data entry and management tools will be used in this evaluation. The measures of the national evaluation address annual Congressional reporting requirements of the program's authorizing legislation, and the national outcome measures for mental health programs as currently established by SAMHSA.

Changes

The previously approved Phase VI evaluation is composed of six core study components: (1) The System of Care Assessment that documents the development of systems of care through site visits conducted every 12-18 months; (2) the Cross-Sectional Descriptive Study that collects descriptive data on all children and families who enter the CMHS-funded systems of care throughout the funding period; (3) the Child and Family Outcome Study that collects data longitudinally on child clinical and functional status, and family outcomes; (4) the Service Experience Study that collects data on family experience and satisfaction with services from a sample of children and families; (5) the Services and Costs Study that assesses the costs and cost-effectiveness of system of care services; and (6) the Sustainability Study, as well as and three special studies: The Alumni Networking Study, the Continuous Quality Improvement (CQI) Initiative Evaluation, and the Sector and Comparison Study. Earlier revisions eliminated one of the core studies, the Sustainability Study, and two of the special studies: The Alumni Networking Study and the Continuous Quality Improvement (CQI) Initiative Evaluation.

This revision requests the elimination of the Sector and Comparison Study. The eliminated studies have provided data to the program and are no longer needed. The Sector and Comparison Study was conducted with a subsample of the FY 2008-funded CA awardees, which are not included in this revision.

The average annual respondent burden is estimated below. The estimate reflects the average number of respondents in each respondent category, the average number of responses per respondent per year, the average length of time it will take to complete each response, and the total average annual burden for each category of respondent, and for all categories of respondents combined.

Table 1—Estimate of Respondent Burden
Instrument | Respondent | Number of respondents | Total average number of responses per respondent | Hours per response | Total burden hours
System of Care Assessment
Interview Guides A-I, L-S | Key site informants | 207 | 1 | 1.00 | 207
Child and Family Outcome Study
Caregiver Information Questionnaire, Revised—Intake (CIQ-R-I) | Caregiver | 1,099 | 1 | 0.37 | 407
Caregiver Information Questionnaire, Revised—Follow-Up (CIQ-R-F) | Caregiver | 1,099 | 1 | 0.28 | 308
Caregiver Strain Questionnaire (CGSQ) | Caregiver | 1,099 | 2 | 0.17 | 374
Child Behavior Checklist (CBCL)/Child Behavior Checklist 1½-5/6-18 | Caregiver | 1,099 | 2 | 0.33 | 725
Education Questionnaire, Revision 2 (EQ-R2) | Caregiver | 1,099 | 2 | 0.33 | 725
Living Situations Questionnaire (LSQ) | Caregiver | 1,099 | 2 | 0.08 | 176
Behavioral and Emotional Rating Scale—Second Edition, Parent Rating Scale (BERS-2C) | Caregiver | 1,781 | 2 | 0.17 | 606
Columbia Impairment Scale (CIS) | Caregiver | 1,989 | 2 | 0.08 | 318
Parenting Stress Index (PSI) | Caregiver | 536 | 2 | 0.08 | 86
Deveraux Early Childhood Assessment (DECA) | Caregiver | 504 | 2 | 0.08 | 81
Preschool Behavioral and Emotional Rating Scale—Second Edition, Parent Rating Scale (PreBERS) | Caregiver | 504 | 2 | 0.10 | 101
Delinquency Survey—Revised (DS-R) | Youth | 1,504 | 2 | 0.13 | 391
Behavioral and Emotional Rating Scale—Second Edition, Youth Rating Scale (BERS-2Y) | Youth | 1,504 | 2 | 0.17 | 511
GAIN Quick—R: Substance Problem Scale | Youth | 1,504 | 2 | 0.08 | 241
Substance Use Survey, Revised (SUS-R) | Youth | 1,504 | 2 | 0.10 | 301
Revised Children's Manifest Anxiety Scales, Second Edition (RCMAS-2) | Youth | 1,504 | 2 | 0.07 | 211
Reynolds Adolescent Depression Scale, Second Edition (RADS-2) | Youth | 1,504 | 2 | 0.05 | 150
Youth Information Questionnaire, Revised—Baseline (YIQ-R-I) | Youth | 1,504 |  | 0.25 | 376
Youth Information Questionnaire, Revised—Follow-Up (YIQ-R-F) | Youth | 1,504 |  | 0.25 | 376
Service Experience Study
Multi-Sector Service Contacts, Revised—Intake (MSSC-R-I) | Caregiver | 2,257 | 1 | 0.25 | 564
Multi-Sector Service Contacts, Revised—Follow-Up (MSSC-R-F) | Caregiver | 2,257 | 2 | 0.25 | 1,129
Cultural Competence and Service Provision Questionnaire, Revised (CCSP-R) | Caregiver | 2,257 | 1 | 0.13 | 293
Youth Services Survey—Family (YSS-F) | Caregiver | 2,257 | 1 | 0.12 | 271
Youth Services Survey (YSS) | Youth | 1,504 | 1 | 0.08 | 120
Services and Costs Study
Flex Funds Data Dictionary/Tool | Local programming staff compiling/entering administrative data on children/youth | 275 | 3 | 0.03 | 25
Services and Costs Data Dictionary/Data Entry Application | Local evaluator, staff at partner agencies, and programming staff compiling/entering service and cost records on children/youth | 2,257 | 20 | 0.05 | 2,257

Summary of Annualized Burden Estimates for 1 Year
| Number of distinct respondents | Number of responses per respondent | Total annual burden (hours)
Caregivers | 2,257 | 1.5 | 9,059
Youth | 1,504 | 1.6 | 2,682
Providers/Administrators | 275 | 24.0 | 1,333
Total Summary | 4,036 | 27 | 13,074

Written comments and recommendations concerning the proposed information collection should be sent by April 23, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-06606 Filed 3-23-15; 8:45 am]

BILLING CODE 4162-20-P